DEPARTMENT OF ENERGY

Notice of Request for Information (RFI) on Engaging Governors To Advance State Energy Priorities

AGENCY: Office of Energy Efficiency and Renewable Energy, Department of Energy (DOE).

ACTION: Request for information (RFI).

SUMMARY: The U.S. Department of Energy (DOE) invites public comment on its Request for Information (RFI) number DE-FOA-0002098 regarding Engaging Governors to Advance State Energy Priorities. DOE's Office of Energy Efficiency and Renewable Energy (EERE), State Energy Program (SEP) seeks information on organizations who are able to support state officials serving in the executive branch of state government; in particular, Governors and/or their designated energy representative(s).

DATES: Responses to the RFI must be received by 5:00 p.m. (ET) on September 18, 2019.

ADDRESSES: Interested parties are to submit comments electronically to: GovernorsRFI_DOEWIP@ee.doe.gov. Include Engaging Governors to Advance State Energy Priorities in the subject of the title. Responses must be provided as attachments to an email. The complete RFI document is located at https://eere-exchange.energy.gov/.

FOR FURTHER INFORMATION CONTACT: Questions may be addressed to Greg Dierkers at gregory.dierkers@ee.doe.gov or 202-287-1921. Further instruction can be found in the RFI document posted on EERE Exchange.

SUPPLEMENTARY INFORMATION: The purpose of this RFI is to solicit feedback from industry, academia, nonprofit organizations, and other organizations that have extensive experience working with the senior state officials, including Governors and/or their designated energy representative(s), serving the nation's 55 states and territories. SEP is specifically interested in information on such organizations' ability and experience in providing direct support to states through training on best practices and the development and dissemination of technical assistance programs. The desired outcome is to improve how SEP delivers technical assistance that helps states improve the affordability, reliability, and resiliency of energy systems. The RFI is available at: https://eere-exchange.energy.gov/.

Confidential Business Information

Pursuant to 10 CFR 1004.11, any person submitting information that he or she believes to be confidential and exempt by law from public disclosure should submit via email two well marked copies: One copy of the document marked “confidential” including all the information believed to be confidential, and one copy of the document marked “non-confidential” with the information believed to be confidential deleted. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person that would result from public disclosure; (6) when such information might lose its confidential character due to the passage of time; and (7) why disclosure of the information would be contrary to the public interest.

Signed in Washington, DC, on August 6, 2019.
Anna Maria Garcia,
Director, Weatherization and Intergovernmental Programs Office, Office of Energy Efficiency and Renewable Energy, U.S. Department of Energy.

[FR Doc. 2019-17758 Filed 8-16-19; 8:45 am]

BILLING CODE 6450-01-P